DEPARTMENT OF JUSTICE

Notice of Lodging of Proposed Consent Decree Under the Clean Air Act

On January 19, 2021, the Department of Justice lodged a proposed Consent Decree with the United States District Court for the Northern District of Illinois in the lawsuit entitled United States v. Midwest Can Company, Civil Action No. 21 C 299.

The United States filed this lawsuit under the Clean Air Act. The complaint seeks civil penalties and injunctive relief for violations of the Act pertaining to Defendant's applications for certificates of conformity that were issued to the Defendant authorizing the sale and manufacture of portable fuel containers (“PFCs”). Among other things, the Consent Decree requires the Defendant to conduct additional testing of PFCs manufactured by the Defendant and to report the results of those tests to EPA. The Defendant will also pay a civil penalty of $1.7 million to the United States.

The publication of this notice opens a period for public comment on the Consent Decree. Comments should be addressed to the Assistant Attorney General, Environment and Natural Resources Division, and should refer to United States and Illinois v. Midwest Can Company, D.J. Ref. No. 90-5-2-1-12397. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.25 (25 cents per page reproduction cost) payable to the United States Treasury.

Patricia A. McKenna,
Assistant Section Chief, Environmental Enforcement Section, Environment and Natural Resources Division.

[FR Doc. 2021-01829 Filed 1-27-21; 8:45 am]

BILLING CODE 4410-15-P